DEPARTMENT OF COMMERCE

National Oceanic and Atmospheric Administration

50 CFR Part 648

[Docket No. 001121328-1066-03; I.D. 050801C]

Fisheries of the Northeastern United States; Summer Flounder Fishery; Commercial Quota Harvested for Maine and Delaware

AGENCY: National Marine Fisheries Service (NMFS), National Oceanic and Atmospheric Administration (NOAA), Commerce.

ACTION: Commercial quota harvest.

SUMMARY: NMFS announces that the summer flounder commercial quotas available to the States of Maine and Delaware have been harvested. Vessels issued a commercial Federal fisheries permit for the summer flounder fishery may not land summer flounder in Maine and Delaware for the remainder of calendar year 2001, unless additional quota becomes available through a transfer. Regulations governing the summer flounder fishery require publication of this notification to advise the States of Maine and Delaware that their quotas have been harvested and to advise Federal vessel permit holders and dealer permit holders that no commercial quota is available for landing summer flounder in Maine and Delaware.

DATES: Effective 0001 hours, May 18, 2001, through December 31, 2001.

FOR FURTHER INFORMATION CONTACT: Paul H. Jones, Fishery Policy Analyst, (978) 281-9273, e-mail: paul.h.jones@noaa.gov

SUPPLEMENTARY INFORMATION: Regulations governing the summer flounder fishery are found at 50 CFR part 648. The regulations require annual specification of a commercial quota that is apportioned among the coastal states from North Carolina through Maine. The process to set the annual commercial quota and the percent allocated to each state is described in § 648.100.

The initial total commercial quota for summer flounder for the 2001 calendar year was set equal to 10,747,535 lb (4,875,000 kg)(66 FR 16151, March 23, 2001). The percent allocated to vessels landing summer flounder in Maine is 0.04756 percent, or 5,112 lb (2,319 kg). The allocation for Maine was adjusted due to an overage in 2000, as provided in § 648.100(i)(2), for a final allocation of 2,146 lb (973 kg).

The percent allocated to vessels landing summer flounder in Delaware is 0.01779 percent, or 1,912 lb (867 kg). In 2000, NMFS prohibited Federal permit holders from landing summer flounder in the State of Delaware because there was no quota available after the deduction from the 2000 quota of quota overages in 1999 (65 FR 33486, May 24, 2000). As a result of those deductions and further quota reductions published in the Federal Register on August 18, 2000 (65 FR 50463), and December 29, 2000 (65 FR 82945), the 2000 quota allocation to the State of Delaware was -31,303 lb (-14,199 kg). An additional 12,317 lb (5,587 kg) of summer flounder were landed in Delaware in 2000. The 2001 quota for Delaware is not sufficient to offset this negative 2000 allocation and the additional landings in 2000.

Section 648.101(b) requires the Administrator, Northeast Region, NMFS to monitor state commercial quotas and to determine when a state’s commercial quota is harvested. NMFS will then publish a notification in the Federal Register advising a state and notifying Federal vessel and dealer permit holders that, effective upon a specific date, the state’s commercial quota has been harvested and no commercial quota is available for landing summer flounder in that state. The Regional Administrator has determined, based upon dealer reports and other available information, that the States of Maine and Delaware have attained their quotas for 2001.

The regulations at § 648.4(b) provide that Federal permit holders agree, as a condition of the permit, not to land summer flounder in any state that the Regional Administrator has determined no longer has commercial quota available. Therefore, effective 0001 hours, May 18, 2001, further landings of summer flounder in Maine and Delaware by vessels holding commercial Federal fisheries permits are prohibited for the remainder of the 2001 calendar year, unless additional quota becomes available through a transfer and is announced in the Federal Register. Effective 0001 hours, May 18, 2001, federally permitted dealers are also advised that they may not purchase summer flounder from federally permitted vessels that land in Maine and Delaware for the remainder of the calendar year, or until additional quota becomes available through a transfer.

Classification

This action is required by 50 CFR part 648 and is exempt from review under Executive Order 12866.

Authority: 16 U.S.C. 1801 et seq.

Dated: May 15, 2001.
Bruce C. Morehead,
Acting Director, Office of Sustainable Fisheries, National Marine Fisheries Service.

[FR Doc. 01-12606 Filed 5-17-01; 8:45 am]

BILLING CODE 3510-22-S